ENVIRONMENTAL PROTECTION AGENCY

[ER-FRL-6251-8]

Environmental Impact Statements; Notice of Availability

Responsible Agency: Office of Federal Activities, General Information (202) 564-7167 OR www.epa.gov/oeca/ofa.

Weekly receipt of Environmental Impact Statements filed February 29, 2000 through March 03, 2000 pursuant to 40 CFR 1506.9.

EIS No. 000063, Final EIS, AFS, ID, Sloan-Kennally Timber Sale, Proposal to Harvest and Regenerate Timber Strands, Implementation, Payette National Forest, McCall Ranger District, Valley County, ID, Due: April 10, 2000, Contact: Dan Anderson (208) 347-0349.

EIS No. 000064, Draft EIS, BOP, CA, Lassen County Federal Correctional Institution (FCI), Construction and Operation, To House Median-Security Inmates and Federal Prison Camp, Possible Site is Southwest Site, Lassen County, CA, Due: April 24, 2000, Contact: David J. Dorworth (202) 514-6470.

EIS No. 000065, Final EIS, AFS, MT, Flathead National Forest, Swan Lake Ranger District, Meadow Smith Project, Vegetative Treatments and Other Activities to Maintain and Restore Large-Tree Old Grow Forest Characteristics, Lake and Missoula Counties, MT, Due: April 10, 2000, Contact: Keith Soderstrom (406) 837-7510.

EIS No. 000066, Draft EIS, AFS, PA, Allegheny National Forest, To Address the Maintenance and Enhancement of Threatened and Enchangered Species, Elk, Forest, McKean and Warren Counties, PA, Due: April 24, 2000, Contact: Gary W.Kell (814) 723-5150.

EIS No. 000067, Final EIS, NPS, NB, SD, Missouri National Recreational River, General Management Plan, Implementation, Cedar and Dixon Counties, NB and Yakton, Clay and Union Counties, SD, Due: April 10, 2000, Contact: Michael Madell (608) 264-5257.

EIS No. 000068, Draft EIS, AFS, OR, Triangle Land Exchange Project, Between Clearwater Land Exchange Oregon (Clearwater) an Oregon Partnership, Implementation, Malheur, Umatilla and Wallowa-Whitman National Forests, Baker, Grant, Harney and Wallowa Counties, OR, Due: April 24, 2000, Contact: Bob Miles (541) 575-3000.

EIS No. 000069, Final EIS, AFS, MT, Clancy-Unionville Vegetation Manipulation and Travel Management Project, Implementation, Helena National Forest, Helena Ranger District, Lewis and Clark and Jefferson Counties, MT, Due: April 10, 2000, Contact: Dan Mainwaring (406) 449-5490.

EIS No. 000070, Draft EIS, AFS, MN, Gunflint Corridor Fuel Reduction, Implementation, Superior National Forest, Gunflint Ranger District, Cook County, MN, Due: April 24, 2000, Contact: Becky Bartol (218) 387-1750.

Amended Notices

EIS No. 000051, Draft EIS, FTA, OH, Bera/I-X Center Red Line Extension Project, Southwest Corridor Major Investment, Transit Improvements, Funding, Cuyahoga County, OH, Due April 17, 2000, Contact Carlos Pena (312) 353-2865. Revision of FR notice published on 02/25/2000: Completion of Distribution was not completed until 02/25/2000 EIS should not have appeared in the FR until 03/03/2000. The 45-day comment period is calculated from 03/03/2000.

Dated: March 6, 2000
B. Katherine Biggs,
Associate Director, NEPA Compliance Division, Office of Federal Activities.

[FR Doc. 00-5930 Filed 3-9-00; 8:45 am]

BILLING CODE 6560-50-U